DEPARTMENT OF HEALTH AND HUMAN SERVICES

Office of the Secretary

National Foundation on Fitness, Sports, and Nutrition Establishment Act; Delegation of Authority; Office of the Assistant Secretary for Health

Notice is hereby given that I have delegated to the Assistant Secretary for Health authority under Section 5 of the National Foundation on Fitness, Sports, and Nutrition Establishment Act, Public Law 111-332 (Dec. 22, 2010). The delegation excludes the authorities to issue regulations and to submit reports to the Congress. This authority may be re-delegated.

I hereby affirm and ratify any actions taken by the Assistant Secretary for Health, or his subordinates, which involved the exercise of this authority delegated herein prior to the effective date of this delegation of authority.

This delegation is effective upon date of signature.

Dated: September 6, 2013.
Kathleen Sebelius,
Secretary.

[FR Doc. 2013-22235 Filed 9-11-13; 8:45 am]

BILLING CODE 4150-35-P